DEPARTMENT OF DEFENSE

GENERAL SERVICES ADMINISTRATION

NATIONAL AERONAUTICS AND SPACE ADMINISTRATION

48 CFR Parts 11, 19, 22, 26, 42, 52, and 53

[FAC 2021-06; Item III; Docket No. FAR-2021-0052; Sequence No. 2]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: July 12, 2021.

FOR FURTHER INFORMATION CONTACT: Ms. Lois Mandell, Regulatory Secretariat Division (MVCB), at 202-501-4755 or GSARegSec@gsa.gov. Please cite FAC 2021-06, Technical Amendment.

SUPPLEMENTARY INFORMATION: This document makes editorial changes to 48 CFR parts 11, 19, 22, 26, 42, 52 and 53 of the FAR.

List of Subjects in 48 CFR Parts 11, 19, 22, 26, 42, 52, and 53

Government procurement.

William F. Clark,
Director, Office of Government-wide Acquisition Policy, Office of Acquisition Policy, Office of Government-wide Policy.

Therefore, DoD, GSA, and NASA amend 48 CFR parts 11, 19, 22, 26, 42, 52, and 53 as set forth below:

1. The authority citation for 48 CFR parts 11, 19, 22, 26, 42, 52, and 53 continues to read as follows:

Authority: 40 U.S.C. 121(c); 10 U.S.C. chapter 137; and 51 U.S.C. 20113.

PART 11—DESCRIBING AGENCY NEEDS

11.201 [Amended]

2. Amend section 11.201 by removing paragraph (d)(2)(iii).

PART 19—SMALL BUSINESS PROGRAMS

19.102 [Amended]

3. Amend section 19.102 by removing from paragraph (a)(2) “https://www.census.gov/eos/www/naics/” and adding “https://www.census.gov/naics/” in its place.

19.201 [Amended]

4. Amend section 19.201 by removing from paragraph (c)(1) “Director of Small” and adding “Director of the Office of Small” in its place.

19.702 [Amended]

5. Amend section 19.702 by removing from paragraph (d) “http://www.acq.osd.mil/osbp/mentor_protege/” and adding “https://business.defense.gov/Programs/Mentor-Protege-Program/ ” in its place.

19.812 [Amended]

6. Amend section 19.812 by removing from paragraph (a) “https://pubapp.dcma.mil/CASD/main.jsp”” and adding “https://piee.eb.mil/pcm/xhtml/unauth/index.xhtml))” in its place.

PART 22—APPLICATION OF LABOR LAWS TO GOVERNMENT ACQUISITIONS

22.805 [Amended]

7. Amend section 22.805 by removing from paragraph (a)(4)(i) “https://ofccp.dol-esa.gov/preaward/pa_reg.html” and adding “https://www.dol.gov/agencies/ofccp/pre-award/registry” in its place.

PART 26—OTHER SOCIOECONOMIC PROGRAMS

26.201 [Amended]

8. Amend section 26.201 in the definition “Major disaster or emergency area” by removing “http://www.fema.gov/news/disasters.fema” and adding “https://www.fema.gov/disasters/disaster-declarations” in its place.

PART 42—CONTRACT ADMINISTRATION AND AUDIT SERVICES

42.203 [Amended]

9. Amend section 42.203 by removing “https://pubapp.dcma.mil/CASD/main.jsp” and adding “https://piee.eb.mil/pcm/xhtml/unauth/index.xhtml” in its place.

PART 52—SOLICITATION PROVISIONS AND CONTRACT CLAUSES

10. Amend section 52.211-2 by—

a. Revising the date of the provision;

b. Removing from the end of paragraph (a)(2) the semicolon and adding a period in its place; and

c. Removing paragraph (a)(3).

The revision reads as follows:

§52.211-2 Availability of Specifications, Standards, and Data Item Descriptions Listed in the Acquisition Streamlining and Standardization Information System (ASSIST).

* * * * *

Availability of Specifications, Standards, and Data Item Descriptions Listed in the Acquisition Streamlining and Standardization Information System (ASSIST) (JUL 2021)

* * * * *

11. Amend section 52.212-1 by—

a. Revising the date of the clause; and

b. Removing paragraph (i)(2)(iii).

The revision reads as follows:

§52.212-1 Instructions to Offerors—Commercial Items.

* * * * *

Instructions to Offerors—Commercial Items (JUL 2021)

* * * * *

12. Amend section 52.212-5 by—

a. Revising the clause heading and the date of the clause;

b. Removing from paragraph (b)(51) “(JUNE 2008)” and adding “(FEB 2021)” in its place;

c. Removing from paragraph (b)(55) “(JUN 2020)” and adding “(FEB 2021)” in its place

d. Removing from paragraphs (b)(63)(i) and (e)(1)(xxii) “46 U.S.C. Appx. 1241(b)” and adding “46 U.S.C. 55305” in their places, respectively; and

e. In Alternate II—

i. Revising the date of the Alternate; and

ii. Removing from paragraph (e)(1)(ii)(U) “46 U.S.C. Appx. 1241(b)” and adding “46 U.S.C. 55305” in its place.

The revisions read as follows:

§52.212-5 Contract Terms and Conditions Required To Implement Statutes or Executive Orders—Commercial Items.

* * * * *

Contract Terms and Conditions Required To Implement Statutes or Executive Orders—Commercial Items (JUL 2021)

* * * * *

Alternate II (JUL 2021). * * *

13. Amend section 52.213-4 by—

a. Revising the date of the clause;

b. Removing from paragraph (a)(1)(vii) “(JUN 2008)” and adding “(FEB 2021)” in its place;

c. Removing from paragraph (a)(2)(viii) “(NOV 2020)” and adding “(JUL 2021)” in its place; and

d. Removing from paragraph (b)(1)(xxi) “46 U.S.C. App. 1241” and adding “46 U.S.C. 55305” in its place.

The revision reads as follows:

§52.213-4 Terms and Conditions—Simplified Acquisitions (Other Than Commercial Items).

* * * * *

Terms and Conditions—Simplified Acquisitions (Other Than Commercial Items) (JUL 2021)

* * * * *

14. Amend section 52.222-8 by—

a. Revising the date of the clause; and

b. Removing from paragraph (b)(1) “http://www.dol.gov/whd/forms/wh347.pdf” and adding “https://www.dol.gov/agencies/whd/forms” in its place.

The revision reads as follows:

§52.222-8 Payrolls and Basic Records.

* * * * *

Payrolls and Basic Records (JUL 2021)

* * * * *

15. Amend section 52.244-6 by—

a. Revising the date of the clause; and

b. Removing from paragraph (c)(1)(xx) “46 U.S.C. App. 1241” and adding “46 U.S.C. 55305” in its place.

The revision reads as follows:

§52.244-6 Subcontracts for Commercial Items.

* * * * *

Subcontracts for Commercial Items (JUL 2021)

* * * * *

PART 53—FORMS

§53.236-2 [Amended]

16. Amend section 53.236-2 by removing from the paragraph (b) subject heading “(Rev. 8/2016)” and adding “(Rev. JUL 2021)” in its place.

[FR Doc. 2021-11867 Filed 6-9-21; 8:45 am]

BILLING CODE 6820-EP-P